DEPARTMENT OF COMMERCE

National Oceanic and Atmospheric Administration

50 CFR Part 622

[Docket No. 100210083-0085-01]

RIN 0648-AY67

Fisheries of the Caribbean, Gulf of Mexico, and South Atlantic; Coastal Migratory Pelagic Resources of the Gulf of Mexico and South Atlantic; Commercial King and Spanish Mackerel Fisheries of the Gulf of Mexico; Control Date

AGENCY: National Marine Fisheries Service (NMFS), National Oceanic and Atmospheric Administration (NOAA), Commerce.

ACTION: Advanced notice of proposed rulemaking; request for comments.

SUMMARY: This notice announces that the Gulf of Mexico Fishery Management Council (Council) is considering additional management measures to further limit the number of participants or levels of participation in the commercial king and Spanish mackerel components of the coastal migratory pelagic fishery operating in the exclusive economic zone (EEZ) of the Gulf of Mexico. If such management measures are implemented, the Council is considering June 30, 2009, as a possible control date for king mackerel and March 31, 2010, as a possible control date for Spanish mackerel. These dates may serve to determine eligibility of catch histories in the commercial king and Spanish mackerel fisheries. NMFS invites comments on the revision of these control dates.

DATES: Comments must be submitted by April 14, 2010.

ADDRESSES: You may submit comments, identified by RIN 0648-AY67, by any one of the following methods:

• Electronic Submissions: Submit all electronic public comments via the Federal e-Rulemaking Portal http://www.regulations.gov

• Mail: Susan Gerhart, Southeast Regional Office, NMFS, 263 13th Avenue South, St. Petersburg, FL 33701

Instructions: No comments will be posted for public viewing until after the comment period has closed. All comments received are a part of the public record and will generally be posted to http://www.regulations.gov without change. All Personal Identifying Information (for example, name, address, etc.) voluntarily submitted by the commenter may be publicly accessible. Do not submit Confidential Business Information or otherwise sensitive or protected information. Comments should apply to the control date as an eligibility requirement for a catch share program, not the catch share program itself.

To submit comments through the Federal e-Rulemaking Portal: http://www.regulations.gov, enter “NOAA-NMFS-2010-0031” in the keyword search, then select “Send a Comment or Submission.” NMFS will accept anonymous comments (enter N/A in the required fields, if you wish to remain anonymous). You may submit attachments to electronic comments in Microsoft Word, Excel, WordPerfect, or Adobe PDF file formats only.

SUPPLEMENTARY INFORMATION: The commercial fishery for mackerel in the Gulf of Mexico is managed under the Fishery Management Plan for the Coastal Migratory Pelagic Resources of the Gulf of Mexico and South Atlantic (FMP). The FMP was prepared jointly by the South Atlantic Fishery Management Council and the Gulf of Mexico Fishery Management Council (Council), and implemented under the authority of the Magnuson-Stevens Fishery Conservation and Management Act (Magnuson-Stevens Act).

The Council anticipates that future action may be necessary to further control effort or participation of Gulf of Mexico (Gulf) king and Spanish mackerel through additional management actions. At its February 2010 meeting, the Council approved a motion to revise control dates for king and Spanish mackerel. Specifically, the Council may consider creating additional restrictions to limit participation including creating a catch share program. To discourage accelerated effort to develop a catch history before the program is implemented, the Council may establish eligibility criteria based on catch histories from, and before, the most recent full fishing seasons. The proposed control date for king mackerel would be June 30, 2009, and the proposed control date for Spanish mackerel would be March 31, 2010. Thus, landings of the respective species after these dates may not count toward potential eligibility under a future management program. The implementation of a future program to restrict access in the fishery would require preparation of an amendment to the FMP and publication of a notice of availability of the amendment with a comment period, publication of a proposed rule with a public comment period, approval of the amendment, and issuance of a final implementing rule.

The current control date for both king and Spanish mackerel is October 16, 1995. This current notice proposes an adjustment of the control dates for these fisheries to the end of the most recent fishing year to allow incorporation of more recent as well as historical fishing activity.

The revision of control dates for king and Spanish mackerel does not commit the Council or NMFS to any particular management regime. The Council may or may not make use of these control dates as part of the qualifying criteria for participation in any potential future catch share or fishery management program for Gulf group mackerel. Fishermen are not guaranteed future participation in the fishery, regardless of their entry date or intensity of participation in the fishery before or after the control dates under consideration. Future determinations of the Council may give variably weighted consideration to fishermen active in the fishery before and after the control dates. Other qualifying criteria, such as documentation of landings and sales, may be applied for entry into the fishery. Additionally, the Council may choose to take no further action to control entry or access to the fishery, in which case the control dates may be rescinded.

This notification also gives the public notice that interested participants should locate and preserve records that substantiate and verify their participation in the commercial king and Spanish mackerel fisheries in the Gulf EEZ.

Authority: 16 U.S.C. 1801 et seq.

Dated: March 9, 2010.
Samuel D. Rauch III,
Deputy Assistant Administrator For Regulatory Programs, National Marine Fisheries Service.

[FR Doc. 2010-5603 Filed 3-12-10; 8:45 am]

BILLING CODE 3510-22-S